DEPARTMENT OF HOMELAND SECURITY

Coast Guard

33 CFR Part 117

[Docket No. USCG-2018-0980]

Drawbridge Operation Regulation; Sacramento River, Rio Vista, CA

AGENCY: Coast Guard, DHS.

ACTION: Notice of deviation from drawbridge regulation.

SUMMARY: The Coast Guard has issued a temporary deviation from the operating schedule that governs the Rio Vista Drawbridge across Sacramento River, mile 12.8 at Rio Vista, CA. The deviation is necessary to allow the bridge owner to conduct preventative maintenance on the bridge. This deviation allows the bridge to operate at various specified times during the deviation period.

DATES: This deviation is effective without actual notice from November 19, 2018 to 11:50 p.m. on February 15, 2019. For the purposes of enforcement, actual notice will be used from November 15, 2018 through November 19, 2018.

ADDRESSES: The docket for this deviation, USCG-2018-0980, is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516, email Carl.T.Hausner@uscg.mil.

SUPPLEMENTARY INFORMATION: The California Department of Transportation has requested a temporary change to the operation of the Rio Vista Drawbridge, mile 12.8, over the Sacramento River, at Rio Vista, CA. The drawbridge navigation span provides a vertical clearance of 18 feet above Mean High Water in the closed-to-navigation position. In accordance with 33 CFR 117.5, the draw opens on signal. Navigation on the waterway is commercial and recreational.

From November 15, 2018 to February 15, 2019, the draw shall open for recreational vessels in accordance with the following schedule: Monday through Friday, 7 a.m. to 3:30 p.m., the draw need not open for the passage of recreational vessels except between 11 a.m. and noon when the draw shall open on signal when notice is given to the bridge tender. The draw shall open on signal, Monday through Friday, 3:30 p.m. to 7 a.m. the following morning, if at least a 4-hour notification is given to the bridge tender. The draw shall open on signal from 7 a.m. on Saturday though 11:59 p.m. on Sunday when notice is given to the bridge tender.

From November 15, 2018 to February 15, 2019, the draw shall open for commercial vessels in accordance with the following schedule: The draw shall open on signal from midnight on Monday through 7 a.m. on Saturday if at least a 4-hour notification is given to the bridge tender. The draw shall open on signal from 7 a.m. on Saturday through 11:59 p.m. on Sunday when notice is given to the bridge tender.

The temporary schedule change will allow the bridge owner to conduct needed maintenance and painting on the lift span portion of the bridge. This temporary deviation has been coordinated with the waterway users. No objections to the proposed temporary deviation were raised.

Vessels able to pass through the bridge in the closed position may do so at anytime. The bridge will be able to open for emergencies in accordance with 33 CFR 117.31(b). There is no immediate alternate route for vessels to pass. The Coast Guard will also inform the users of the waterway through our Local and Broadcast Notices to Mariners of the change in operating schedule for the bridge so vessel operators can arrange their transits to minimize any impact caused by the temporary deviation.

In accordance with 33 CFR 117.35(e), the drawbridge must return to its regular operating schedule immediately at the end of the effective period of this temporary deviation. This deviation from the operating regulations is authorized under 33 CFR 117.35.

Dated: November 6, 2018.
Carl T. Hausner,
District Bridge Chief, Eleventh Coast Guard District.

[FR Doc. 2018-25153 Filed 11-16-18; 8:45 am]

BILLING CODE 9110-04-P